DEPARTMENT OF HOMELAND SECURITY

Federal Emergency Management Agency

[Docket ID FEMA-2023-0002; Internal Agency Docket No. FEMA-B-2386]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Colorado:
Adams | City of Northglenn, (22-08-0711P). | The Honorable Meredith Leighty, Mayor, City of Northglenn, 11701 Community Center Drive, Northglenn, CO 80233. | City Hall, 11701 Community Center Drive, Northglenn, CO 80233. | https://msc.fema.gov/portal/advanceSearch. | Dec. 15, 2023 | 080257
Denver | City and County of Denver, (23-08-0074P). | The Honorable Mike Johnston, Mayor, City and County of Denver, 1437 North Bannock Street, Room 350, Denver, CO 80202. | Department of Public Works, 201 West Colfax Avenue, Denver, CO 80202. | https://msc.fema.gov/portal/advanceSearch. | Jan. 19, 2024 | 080046
El Paso | City of Colorado Springs, (23-08-0612X). | The Honorable Yemi Mobolade, Mayor, City of Colorado Springs, 30 South Nevada Avenue, Colorado Springs, CO 80903. | El Paso County, Pikes Peak Regional Building Department, Floodplain Management Office, 2880 International Circle, Colorado Springs, CO 80910. | https://msc.fema.gov/portal/advanceSearch. | Jan. 22, 2024 | 080060
El Paso | Unincorporated areas of El Paso County, (23-08-0612X). | Cami Bremer, Chair, El Paso County, Board of Commissioners, 200 South Cascade Avenue, Suite 100, Colorado Springs, CO 80903. | El Paso County Pikes Peak Regional Building Department, Floodplain Management Office, 2880 International Circle, Colorado Springs, CO 80910. | https://msc.fema.gov/portal/advanceSearch. | Jan. 22, 2024 | 080059
Pueblo | City of Pueblo, (22-08-0523P). | The Honorable Nicholas A. Gradisar, Mayor, City of Pueblo, 1 City Hall Place, Pueblo, CO 81003. | Public Works Department, 211 East D Street, Pueblo, CO 81003. | https://msc.fema.gov/portal/advanceSearch. | Dec. 21, 2023 | 085077
Florida:
Monroe | Unincorporated areas of Monroe County, (23-04-4348P). | The Honorable Craig Cates, Mayor, Monroe County Board Commissioners, 500 Whitehead Street, Suite 102, Key West, FL 33040. | Monroe County Building Department, 2798 Overseas Highway, Suite 300, Marathon, FL 33050. | https://msc.fema.gov/portal/advanceSearch. | Dec. 18, 2023 | 125129
Monroe | Unincorporated areas of Monroe County, (23-04-4892P). | The Honorable Craig Cates, Mayor, Monroe County Board Commissioners, 500 Whitehead Street, Suite 102, Key West, FL 33040. | Monroe County Building Department, 2798 Overseas Highway, Suite 300, Marathon, FL 33050. | https://msc.fema.gov/portal/advanceSearch. | Jan. 26, 2024 | 125129
Monroe | Unincorporated areas of Monroe County, (23-04-4894P). | The Honorable Craig Cates, Mayor, Monroe County Board Commissioners, 500 Whitehead Street, Suite 102, Key West, FL 33040. | Monroe County Building Department, 2798 Overseas Highway, Suite 300, Marathon, FL 33050. | https://msc.fema.gov/portal/advanceSearch. | Jan. 26, 2024 | 125129
Monroe | Unincorporated areas of Monroe County, (23-04-4895P). | The Honorable Craig Cates, Mayor, Monroe County Board Commissioners, 500 Whitehead Street, Suite 102, Key West, FL 33040. | Monroe County Building Department, 2798 Overseas Highway, Suite 300, Marathon, FL 33050. | https://msc.fema.gov/portal/advanceSearch. | Jan. 26, 2024 | 125129
Pasco | Unincorporated areas of Pasco County, (23-04-2400P). | Jack Mariano, Chair, Pasco County Board of Commissioners, 37918 Meridian Avenue, Dade City, FL 33525. | Pasco County Building Construction Services Department, 8731 Citizens Drive, Suite 230, New Port Richey, FL 34654. | https://msc.fema.gov/portal/advanceSearch. | Feb. 8, 2024 | 120230
Sarasota | City of Sarasota, (23-04-2352P). | The Honorable Kyle Scott Battie, Mayor, City of Sarasota, 1565 1st Street, Room 101, Sarasota, FL 34236. | Development Service Department, 1565 1st Street, Room 101, Sarasota, FL 34236. | https://msc.fema.gov/portal/advanceSearch. | Dec. 26, 2023 | 125150
Volusia | City of Deltona (23-04-1244P). | The Honorable Santiago Avila, Jr., Mayor, City of Deltona, 2345 Providence Boulevard, Deltona, FL 32725. | City Hall, 2345 Providence Boulevard, Deltona, FL 32725. | https://msc.fema.gov/portal/advanceSearch. | Feb. 9, 2024 | 120677
Volusia | Unincorporated areas of Volusia County, (23-04-1244P). | George Recktenwald, Volusia County Manager, 123 West Indiana Avenue, Deland, FL 32720. | Volusia County Thomas C. Kelly Administration Center, 123 West Indiana Avenue, Deland, FL 32720. | https://msc.fema.gov/portal/advanceSearch. | Feb. 9, 2024 | 125155
Louisiana:
Ascension | Unincorporated areas of Ascension Parish, (23-06-0391P). | The Honorable Clint Cointment, Ascension Parish President, 615 East Worthey Street, Gonzales, LA 70737. | Ascension Parish Government Complex, 615 East Worthey Street, Gonzales, LA 70737. | https://msc.fema.gov/portal/advanceSearch. | Dec. 22, 2023 | 220013
Massachusetts:
Essex | City of Gloucester, (23-01-0351P). | The Honorable Greg Varga, Mayor, City of Gloucester, 9 Dale Avenue, Gloucester, MA 01930. | City Hall, 3 Pond Road, 2nd Floor, Gloucester, MA 01930. | https://msc.fema.gov/portal/advanceSearch. | Dec. 18, 2023 | 250082
North Carolina:
Jackson and Swain | Eastern Band of Cherokee Indians, (21-04-5780P) | The Honorable Richard Sneed, Principal Chief, Eastern Band of Cherokee Indians, P.O. Box 455, Cherokee, NC 28719. | Office of the Principal Chief, 88 Council House Loop, Cherokee, NC 28719. | https://msc.fema.gov/portal/advanceSearch. | Nov. 13, 2023 | 370401
Jackson | Unincorporated areas of Jackson County, (21-04-5780P) | Mark Letson, Chair, Jackson County Board of Commissioners, P.O. Box 246, Cashiers, NC 28714. | Jackson County Planning Department, 401 Grindstaff Cove Road, Sylva, NC 28779. | https://msc.fema.gov/portal/advanceSearch. | Nov. 13, 2023 | 370282
Rowan | Town of Granite Quarry, (22-04-4689P) | The Honorable Brittany Barnhardt, Mayor, Town of Granite Quarry, 143 North Salisbury Avenue, Granite Quarry, NC 28146. | Town Hall, 143 North Salisbury Avenue, Granite Quarry, NC 28146. | https://msc.fema.gov/portal/advanceSearch. | Jan. 3, 2024 | 370212
Swain | Unincorporated areas of Swain County, (21-04-5780P). | Kevin Seagle, Chair, Swain County Board of Commissioners, P.O. Box 2321, Bryson City, NC 28713 | Swain County, Administration Building, 50 Main Street, Suite 300, Bryson City, NC 28713. | https://msc.fema.gov/portal/advanceSearch. | Nov. 13, 2023 | 370227
Pennsylvania:
Blair | Township of Blair, (22-03-1203P). | Paul R. Amigh, II, Chair, Township of Blair Board of Supervisors, 375 Cedarcrest Drive, Duncansville, PA 16635. | Township Hall, 375 Cedarcrest Drive, Duncansville, PA 16635. | https://msc.fema.gov/portal/advanceSearch. | Jan. 18, 2024 | 421386
South Carolina:
Greenville | Unincorporated areas of Greenville County, (23-04-1969P). | Joseph Kernell, Greenville County Administrator, 301 University Ridge, Suite N-4000, Greenville, SC 29601. | Greenville County Square, 301 University Ridge, Suite S-3100, Greenville, SC 29601. | https://msc.fema.gov/portal/advanceSearch. | Jan. 29, 2024 | 450089
Tennessee:
Williamson | Unincorporated areas of Williamson County, (22-04-3168P). | The Honorable Rogers Anderson, Mayor, Williamson County, 1320 West Main Street, Suite 125, Franklin, TN 37064. | Williamson County Planning and Zoning Department, 1320 West Main Street, Suite 400, Franklin, TN 37064. | https://msc.fema.gov/portal/advanceSearch. | Dec. 29, 2023 | 470204
Texas:
Dallas | City of Grand Prairie, (23-06-0809P). | The Honorable Ron Jensen, Mayor, City of Grand Prairie, P.O. Box 534045, Grand Prairie, TX 75053. | City Hall, 300 West Main Street, Grand Prairie, TX 75050. | https://msc.fema.gov/portal/advanceSearch. | Jan. 8, 2024 | 485472
Dallas | City of Irving (23-06-0809P). | The Honorable Rick Stopfer, Mayor, City of Irving, 825 West Irving Boulevard, Irving, TX 75060. | City Hall, 825 West Irving Boulevard, Irving, TX 75060. | https://msc.fema.gov/portal/advanceSearch. | Jan. 8, 2024 | 480180
Ellis | Unincorporated areas of Ellis County, (23-06-0581P). | The Honorable Todd Little, Ellis County Judge, 101 West Main Street, Waxahachie, TX 75165. | Ellis County Engineering Department, 109 South Jackson Street, Waxahachie, TX 75165. | https://msc.fema.gov/portal/advanceSearch. | Jan. 18, 2024 | 480798
Rockwall | City of Fate (23-06-0839P). | The Honorable David Billings, Mayor, City of Fate, 1900 C.D. Boren Parkway, Fate, TX 75087. | City Hall, 1900 C.D. Boren Parkway, Fate, TX 75087. | https://msc.fema.gov/portal/advanceSearch. | Dec. 18, 2023 | 48054
Utah:
Utah | City of Mapleton, (23-08-0221P). | The Honorable Dallas Hakes, Mayor, City of Mapleton, 125 West 400 North, Mapleton, UT 84664. | Public Works Department, 1405 West 1600 North, Mapleton, UT 84664. | https://msc.fema.gov/portal/advanceSearch. | Jan. 8, 2024 | 490156
Virginia:
Loudoun | Town of Leesburg, (23-03-0038P). | Kaj Dentler, Manager, Town of Leesburg, 25 West Market Street, Leesburg, VA 20176. | Town Hall, 25 West Market Street, Leesburg, VA 20176. | https://msc.fema.gov/portal/advanceSearch. | Jan. 22, 2024 | 510091
Loudoun | Town of Leesburg, (23-03-0239P). | Kaj Dentler, Manager, Town of Leesburg, 25 West Market Street, Leesburg, VA 20176. | Town Hall, 25 West Market Street, Leesburg, VA 20176. | https://msc.fema.gov/portal/advanceSearch. | Jan. 29, 2024 | 510091
Loudoun | Unincorporated areas of Loudoun County, (23-03-0239P). | Tim Hemstreet, Loudoun County Administrator, 1 Harrison Street, Southeast, 5th Floor, Leesburg, VA 20175. | Loudoun County Government Center, 1 Harrison Street Southeast, 3rd Floor, MSC #60, Leesburg, VA 20175. | https://msc.fema.gov/portal/advanceSearch. | Jan. 29, 2024 | 510090

[FR Doc. 2023-24805 Filed 11-8-23; 8:45 am]

BILLING CODE 9110-12-P